POSTAL SERVICE

39 CFR Part 111

Parcels Prepared in Soft Packaging

AGENCY: Postal Service™.

ACTION: Proposed rule.

SUMMARY: The United States Postal Service (Postal Service) is proposing to amend Mailing Standards of the United States Postal Service, Domestic Mail Manual (DMM®) by adding new subsections to establish parcel selvage standards and to clarify how to measure parcels prepared in soft packaging.

DATES: Submit comments on or before April 25, 2022.

ADDRESSES: Mail or deliver written comments to the Director, Product Classification, U.S. Postal Service, 475 L'Enfant Plaza SW, Room 4446, Washington, DC 20260-5015. If sending comments by email, include the name and address of the commenter and send to PCFederalRegister@usps.gov, with a subject line of “Parcels Prepared in Soft Packaging”. Faxed comments are not accepted.

Confidentiality

All submitted comments and attachments are part of the public record and subject to disclosure. Do not enclose any material in your comments that you consider to be confidential or inappropriate for public disclosure.

You may inspect and photocopy all written comments, by appointment only, at USPS® Headquarters Library, 475 L'Enfant Plaza SW, 11th Floor North, Washington, DC 20260. These records are available for review on Monday through Friday, 9 a.m.-4 p.m., by calling 202-268-2906.

FOR FURTHER INFORMATION CONTACT: Karen F. Key at (202) 268-7492 or Garry Rodriguez at (202) 268-7281.

SUPPLEMENTARY INFORMATION: The Postal Service continues to experience operational impacts with parcels not properly prepared in soft packaging (poly, plastic, cloth, padded envelopes, or similar soft packaging). Parcels prepared in soft packaging containing contents that are not right-sized leads to an excess of selvage that can cause damage to the parcel or make the parcel nonmachinable, resulting in the parcel ending up in manual processing which is costly to both the customer and the Postal Service. Parcels that become nonmachinable are not processed through parcel sorting equipment and lose visibility for the customer and the Postal Service.

The Postal Service is proposing to implement a two-inch maximum of selvage on the length and the width of a parcel prepared in soft packaging. The two-inch maximum for the length would be determined by holding the parcel horizontally/landscape and with the contents totally positioned at the bottom of the soft packaging, the selvage must not exceed two inches at the top of the mailpiece. The two-inch maximum for the width would be determined by holding the parcel horizontally/landscape and with the contents totally positioned to the left or to the right side of the soft packaging, the selvage must not exceed two inches on the opposite side of the mailpiece.

In addition, the Postal Service is also proposing to provide a clarification defining how to measure parcels prepared in soft packaging to generally determine the length, width, and height of the mailpiece.

These revisions will not affect the standards for parcels claiming the Priority Mail® Commercial Plus cubic prices.

As a result of the proposed two-inch maximum selvage requirement for parcels prepared in soft packaging, the Postal Service would delete Customer Support Ruling (CSR) PS-340, Measuring Priority Mail Dimensions to Determine Dimensional Weight.

The Postal Service is proposing to implement this change effective July 10, 2022.

We believe the proposed revisions will provide customers with a more efficient, consistent, and easier process.

List of Subjects in 39 CFR Part 111

Administrative practice and procedure, Postal Service.

Although exempt from the notice and comment requirements of the Administrative Procedure Act (5 U.S.C. 553(b), (c)) regarding proposed rulemaking by 39 U.S.C. 410(a), the Postal Service invites public comment on the following proposed revisions to Mailing Standards of the United States Postal Service, Domestic Mail Manual (DMM), incorporated by reference in the Code of Federal Regulations. See 39 CFR 111.1.

We will publish an appropriate amendment to 39 CFR part 111 to reflect these changes.

Accordingly, 39 CFR part 111 is proposed to be amended as follows:

PART 111—[AMENDED]

1. The authority citation for 39 CFR part 111 continues to read as follows:

Authority: 5 U.S.C. 552(a); 13 U.S.C. 301-307; 18 U.S.C. 1692-1737; 39 U.S.C. 101, 401-404, 414, 416, 3001-3018, 3201-3220, 3401-3406, 3621, 3622, 3626, 3629, 3631-3633, 3641, 3681-3685, and 5001.

2. Revise the Mailing Standards of the United States Postal Service, Domestic Mail Manual (DMM) as follows:

Mailing Standards of the United States Postal Service, Domestic Mail Manual (DMM)

* * * * *

100 Retail Mail Letters, Cards, Flats, and Parcels

101 Physical Standards

* * * * *

3.0 Physical Standards for Parcels

* * * * *

[Add new 3.4 and 3.5 to read as follows:]

3.4 Measuring Parcels Prepared in Soft Packaging

Parcels prepared in soft packaging (poly, plastic, cloth, padded envelopes, or similar soft packaging) are measured to determine the dimensions (length, width, height) as follows:

a. Place the piece with its largest side on a flat surface.

b. Measure the length, width, and height of the piece as it appears, including any selvage of the soft packaging material. Measure the length, width, and height at each dimension's maximum point.

3.5 Soft Packaging Selvage

3.5.1 General

Selvage is the overhang of the soft packaging material beyond the contents of the mailpiece.

3.5.2 Maximum Selvage

Parcels mailed under 3.0 in soft packaging material must not exceed 2 inches of selvage on either the length or the width of the mailpiece.

3.5.3 Measuring Selvage

Measure selvage on parcels in soft packaging as follows:

a. With the parcel held horizontally/landscape and the contents totally positioned at the bottom of the soft packaging, the selvage must not exceed 2 inches at the top of the mailpiece.

b. With the parcel held horizontally/landscape and the contents totally positioned to the left or to the right side of the soft packaging, the selvage must not exceed 2 inches on the opposite side of the mailpiece.

* * * * *

200 Commercial Letters, Flats, and Parcels Design Standards

201 Physical Standards

* * * * *

7.0 Physical Standards for Parcels

* * * * *

[Add new 7.8 and 7.9 to read as follows:]

7.8 Measuring Parcels Prepared in Soft Packaging

Except for Priority Mail Commercial Plus Cubic Soft Pack under 223.1.4, parcels prepared in soft packaging (poly, plastic, cloth, padded envelopes, or similar soft packaging) are measured to determine the dimensions (length, width, height) as follows.

a. Place the piece with its largest side on a flat surface.

b. Measure the length, width, and height, as it appears, including any selvage of the soft packaging material. Measure the length, width, and height at each dimension's maximum point.

7.9 Soft Packaging Selvage

7.9.1 General

Selvage is the overhang of the soft packaging material beyond the contents of the mailpiece.

7.9.2 Maximum Selvage

Parcels mailed under 7.0 in soft packaging material must not exceed 2 inches of selvage on either the length or the width of the mailpiece.

7.9.3 Measuring Selvage

Measure selvage on soft packaging parcels as follows:

a. With the parcel held horizontally/landscape and the contents totally positioned at the bottom of the soft packaging, the selvage must not exceed 2 inches at the top of the mailpiece.

b. With the parcel held horizontally/landscape and the contents totally positioned to the left or to the right side of the soft packaging, the selvage must not exceed 2 inches on the opposite side of the mailpiece.

* * * * *

Sarah E. Sullivan,
Attorney, Ethics and Legal Compliance.

[FR Doc. 2022-05600 Filed 3-23-22; 8:45 am]

BILLING CODE 7710-12-P